DEPARTMENT OF COMMERCE

National Oceanic and Atmospheric Administration

RIN 0648-XM35

New Conservation and Management Measures and Resolutions for Antarctic Marine Living Resources Under the Auspices of CCAMLR

AGENCY: National Marine Fisheries Service (NMFS), National Oceanic and Atmospheric Administration (NOAA), Commerce.

ACTION: Final notice.

SUMMARY: NMFS notifies the public that the United States has accepted conservation and management measures and resolutions pertaining to fishing in Antarctic waters managed by the Commission for the Conservation of Antarctic Marine Living Resources (Commission or CCAMLR). The Commission adopted these measures at its twenty-seventh meeting in Hobart, Tasmania, October 27 to November 7, 2008. The measures have been agreed upon by the Member countries of CCAMLR, including the United States, in accordance with Article IX of the Convention for the Conservation of Antarctic Marine Living Resources (the Convention). The measures include: measures previously adopted by the Commission and remaining in force; measures adopted for the 2008/2009 fishing season to restrict overall catches, research catch and bycatch of certain species of finfish, squid, krill and crabs; restrict fishing in certain areas; restrict use of certain fishing gear; specify implementation and inspection obligations supporting the Catch Documentation Scheme of Contracting Parties; promote compliance with CCAMLR measures by non-Contracting Party vessels; and require vessels engaged in bottom fishing to report data on benthic organisms recovered by their gear. This notice includes a summary of the 22 new measures adopted at the twenty-seventh meeting of CCAMLR. The full text of all measures adopted by CCAMLR can be found on CCAMLR's Web site— www.ccamlr.org.

DATES: These measures are effective on June 17, 2009.

FOR FURTHER INFORMATION CONTACT: Robert Gorrell, Office of Sustainable Fisheries, Room 13463, 1315 East-West Highway, SSMC3, NMFS, Silver Spring, MD 20910; tel: 301-713-2341; fax 301-713-1193; e-mail Robert.Gorrell@noaa.gov.

SUPPLEMENTARY INFORMATION:

Background

Pursuant to 50 CFR 300.111, NMFS and the U.S. Department of State (DOS) published in the Federal Register on February 12, 2009 (74 FR 7110) the full text of the new and revised conservation and management measures adopted by CCAMLR at its 2008 meeting. NMFS did not publish those conservation and management measures that were adopted at a previous CCAMLR meeting and that did not change.

NMFS invited the public to comment on these conservation measures until March 16, 2009, and NMFS received no comments.

After providing for public comment under 50 CFR 300.111, NMFS notifies the public that the United States accepts all of the conservation measures adopted at CCAMLR's twenty-seventh meeting, and considers the measures in effect with respect to the United States. For the full text of the new and revised measures adopted, see 74 FR 7110, February 12, 2009. NMFS provides the following summary of these 22 new conservation measures and 2 resolutions as a courtesy to the public.

New Conservation Measures

1. The Commission adopted a new compliance measure CM 10-09 (2008)—Notification system for transshipments within the Convention Area.

The Commission adopted a new measure to require Members of the Commission (Members) to notify the Secretariat of the Commission (Secretariat) of intended transshipments within the Convention Area at least 72 hours in advance. This new measure applies to new and exploratory fisheries, as well as the fisheries for Dissostichus eleginoides in Statistical Division 58.5.2 and Statistical Subarea 48.3, Dissostichus spp. in Statistical Subarea 48.4, Champsocephalus gunnari in Statistical Division 58.5.2 and Statistical Subarea 48.3, and crab in Statistical Subarea 48.3. Notifications of transshipment will require information on carrier vessels and products transshipped and will be made available to Members via a password-protected section of the CCAMLR Web site.

2. The Commission adopted new general fishery matter CM 22-07 (2008) 1 2—Gear Regulations: Interim measure for bottom fishing activities subject to Conservation Measure 22-06 encountering potential vulnerable marine ecosystems (VMEs) in the Convention Area.

The Commission endorsed a precautionary approach for managing bottom fisheries with respect to VMEs, and implemented an interim measure to acquire additional data from fishing vessels in 2008/09 to contribute to assessments and advice on a long-term precautionary approach to avoiding significant adverse impacts on VMEs during the course of fishing.

The requirements in this new conservation measure, and general requirement in CM 22-06, apply to the exploratory fisheries for Dissostichus spp. (Conservation Measures 41-04, 41-05, 41-06, 41-07, 41-09, 41-10 and 41-11), as well as the exploratory fishery for crab in Statistical Subarea 48.2 (Conservation Measure 52-02). In addition to these requirements, the Commission agreed to extend its protection of benthic communities by extending the prohibition of longline fishing in depths shallower than 550 meters across all exploratory fisheries.

3. The Commission adopted new fishery regulation CM 32-09 (2008)—Fishing Seasons, Closed Areas and Prohibition of Fishing: Prohibition of Directed Fishing for Dissostichus spp. except in accordance with specific conservation measures in the 2008/09 season.

The Commission agreed to renew the prohibition of directed fishing for Dissostichus spp. except in accordance with specific conservation measures in the 2008/09 season. Accordingly, directed fishing for Dissostichus spp. in Statistical Subarea 48.5 was prohibited in the 2008/09 season.

4. The Commission adopted new fishery regulation CM 33-02 (2008)—By-catch Limits: Limitation of by-catch in Statistical Division 58.5.2 in the 2008/09 season.

The Commission agreed to apply the existing by-catch limits in Statistical Division 58.5.2 in the 2008/09 season.

5. The Commission adopted new fishery regulation CM 33-03 (2008) 1 2—By-catch Limits: Limitation of by-catch in new and exploratory fisheries in the 2008/09 season.

The Commission agreed to carry forward the by-catch limits for exploratory fisheries, taking account of the revised catch limit for Dissostichus spp. in Statistical Subarea 58.4 and the consequential changes to by-catch limits in those areas, and the decoupling of the macrourid by-catch limit from the toothfish catch limit in Statistical Subarea 88.1.

6. The Commission adopted new fishery regulation CM 41-01 (2008) 1 2—Toothfish: General measures for exploratory fisheries for Dissostichus spp. in the Convention Area in the 2008/09 season.

The Commission established a new Small-Scale Research Unit (SSRU) in Statistical Subarea 88.1 and new SSRUs in Statistical Division 58.4.3b. The Commission revised the requirements for research hauls in Statistical Subareas 48.6 and 58.4, and included guidelines for tagging skates during the Year-of-the-Skate.

The Commission agreed to require vessels participating in the exploratory fisheries for Dissostichus spp. to tag skates at a rate of one skate per five skates caught, up to a maximum of 500 skates per vessel. This requirement was included in all conservation measures for exploratory fisheries for Dissostichus spp.

7. The Commission adopted new fishery regulation CM 41-03 (2008)—Toothfish: Limits on the fishery for Dissostichus spp. in Statistical Subarea 48.4 in the 2008/09 season.

The Commission extended the fishery for Dissostichus eleginoides in the Northern Area of Statistical Subarea 48.4 into 2008/09, and implemented a fishery for Dissostichus spp., in the southern area of that subarea.

8. The Commission adopted new fishery regulation CM 41-04 (2008)—Toothfish: Limits on the exploratory fishery for Dissostichus spp. in Statistical Subarea 48.6 in the 2008/09 season.

The Commission agreed that the exploratory fishery for Dissostichus spp. in Statistical Subarea 48.6 in 2008/09 would be limited to Japanese and Korean-flagged vessels using longline only, and that no more than one vessel per country may fish at any one time. The Commission agreed to increase the tagging rate for Dissostichus spp. to three fish per ton of green weight caught. Other elements regulating this fishery were carried forward.

9. The Commission adopted new fishery regulation CM 41-11 (2008)—Toothfish: Limits on the exploratory fishery for Dissostichus spp. in Statistical Division 58.4.1 in the 2008/09 season.

The Commission agreed that the exploratory fishery for Dissostichus spp. in Statistical Division 58.4.1 in 2008/09 would be limited to one (1) Japanese, five (5) Korean, four (4) New Zealand, one (1) South African, one (1) Spanish, and one (1) Uruguayan-flagged vessels using longlines only. The precautionary catch limit for Dissostichus spp. was reduced to 210 tons and applied as follows: (a) SSRUs A, B, D, F, H: 0 tons; (b) SSRU C: 100 tons; SSRU E: 50 tons; and SSRU G: 60 tons. The Commission also removed the research fishing provision. Other elements regulating this fishery were carried forward.

10. The Commission adopted new fishery regulation CM 41-05 (2008)—Toothfish: Limits on the exploratory fishery for Dissostichus spp. in Statistical Division 58.4.2 in the 2008/09 season.

The Commission agreed that the exploratory fishery for Dissostichus spp. in Statistical Division 58.4.2 in 2008/09 would be limited to one (1) Japanese, four (4) Korean, one (1) Spanish, and one (1) Uruguayan-flagged vessels using longlines only. The Commission agreed to reduce the precautionary catch limit for Dissostichus spp. in Statistical Division 58.4.1 to 70 tons, applied as follows: (a) SSRUs B, C, D: 0 tons; (b) SSRU A: 30 tons; and (c) SSRU E: 40 tons. Other elements regulating this fishery were carried forward.

11. The Commission adopted new fishery regulation CM 41-06 (2008)—Toothfish: Limits on the exploratory fishery for Dissostichus spp. on Elan Bank (Statistical Division 58.4.3a) outside areas of national jurisdiction in the 2008/09 season.

The Commission agreed that the exploratory fishery for Dissostichus spp. in Statistical Division 58.4.3a in 2008/09 would be limited to one (1) Japanese-flagged vessel using longlines only. The Commission also agreed to reduce the precautionary catch limit for Dissostichus spp. to 86 tons. Other elements regulating this fishery were carried forward.

12. The Commission adopted new fishery regulation CM 41-07 (2008)—Toothfish: limits on the exploratory fishery for Dissostichus spp. on Banzare Bank (Statistical Division 58.4.3b) outside areas of national jurisdiction in the 2008/09 season.

The Commission agreed that the exploratory fishery for Dissostichus spp. in Statistical Division 58.4.3b outside areas of national jurisdiction in 2008/09 would be limited to Japanese, Spanish, and Uruguayan-flagged vessels using longlines only, and that no more than one vessel per country would fish at any one time. The Commission agreed that the catch limit in SSRU B should remain at zero. Further, and to ensure that data are collected in 2008/09 to assist with assessing this stock, and to avoid concentrated fishing that may lead to depletion, the Commission agreed that SSRU A should be further subdivided into four new SSRUs. The Commission agreed to reduce the precautionary catch limit for Dissostichus spp. to 120 tons, applied as follows: (a) SSRU A: 30 tons; SSRU B: 0 tons; SSRU C: 30 tons; SSRU D: 30 tons; and SSRU E: 30 tons. Other elements regulating this fishery were carried forward.

13. The Commission adopted new fishery regulation CM 41-09 (2008)—Toothfish: limits for Dissostichus spp. on the exploratory fishery in Statistical Subarea 88.1 in the 2008/09 season.

The Commission agreed that the exploratory fishery for Dissostichus spp. in Statistical Subareas 88.1 in 2008/09 would be limited to two (2) Argentine, one (1) Chilean, four (4) Korean, four (4) New Zealand, three (3) Russian, one (1) South African, one (1) Spanish, three (3) UK, and two (2) Uruguayan-flagged vessels using longlines only.

The Commission retained the catch limit of 2,700 tons for Dissostichus spp. in Statistical Subarea 88.1, and re-allocated the catch limits in SSRUs as follows: (a) SSRU A: 0 tons; SSRUs B, C, G (northern): total of 352 tons; SSRU D: 0 tons; SSRU E: 0 tons; SSRU F: 0 tons; SSRUs H, I, K (slope): total of 1,994 tons; SSRUs J, L: 354 tons; and SSRU M: 0 tons.

The Commission set a precautionary catch limit of 135 tons for skates and rays and 430 tons for Macrourus spp., and limits for other species, applied as follows: (a) SSRU A: 0 tons of any species; SSRUs B, C, G: 50 tons of skates and rays, 40 tons of Macrourus spp., 60 tons of other species; SSRU D: 0 tons of any species; SSRU E: 0 tons of any species; SSRU F: 0 tons of any species; SSRUs H, I, K: 99 tons of skates and rays, 320 tons of Macrourus spp., 60 tons of other species; SSRUs J, L: 50 tons of skates and rays, 70 tons of Macrourus spp., 40 tons of other species; and SSRU M: 0 tons of any species. Other elements regulating this fishery were carried forward.

14. The Commission adopted new fishery regulation CM 41-10 (2008)—Toothfish: limits on the exploratory fishery for Dissostichus spp. in Statistical Subarea 88.2 in the 2008/09 season.

The Commission agreed that the exploratory fishery for Dissostichus spp. in Statistical Subarea 88.2 in 2008/09 would be limited to two (2) Argentine, one (1) Chilean, two (2) Korean, four (4) New Zealand, three (3) Russian, one (1) South African, one (1) Spanish, three (3) UK, and two (2) Uruguayan-flagged vessels using longlines only.

The Commission agreed to remove the research fishing provision, and carry forward the precautionary catch limit for Dissostichus spp. of 567 tons, applied as follows: SSRU A: 0 tons; SSRU B: 0 tons; SSRUs C, D, F, G: 214 tons; and SSRU E: 353 tons.

The Commission agreed to carry forward the precautionary catch limit of 50 tons for skates and rays and 90 tons for Macrourus spp., and limits for other species applied as follows: (a) SSRU A: 0 tons of any species; SSRU B: 0 tons of any species; SSRUs, C, D, F, G: 50 tons of skates and rays, 34 tons of Macrourus spp., 80 tons of other species; SSRU E: 50 tons of skates and rays, 56 tons of Macrourus spp., 20 tons of other species. Other elements regulating this fishery were carried forward.

15. The Commission adopted new fishery regulation CM 42-01 (2008)—Icefish: Limits on the fishery for Champsocephalus gunnari in Statistical Subarea 48.3 in the 2008/09 season.

The Commission revised the limits on the fishery for Champsocephalus gunnari in Sub Statistical 48.3. Other elements regulating this fishery were carried forward.

16. The Commission adopted new fishery regulation CM 42-02 (2008)—Icefish: Limits on the fishery for Champsocephalus gunnari in Statistical Subarea 58.5.2 in the 2008/09 season.

The Commission revised the limits on the fishery for Champsocephalus gunnari in Statistical Division 58.5.2. Other elements regulating this fishery were carried forward.

17. The Commission adopted new fishery regulation CM 51-04 (2008)—Krill: General measure for exploratory fisheries for Euphausia superba in the Convention Area in the 2008/09 season.

The Commission established a new general measure for exploratory fisheries for krill. This measure included, among other things: (a) Four data collection plans for case-specific selection by Members and their flagged vessels; (b) at least one observer appointed in accordance with the CCAMLR Scheme of International Observation and, where possible, one additional observer on board throughout all fishing activities within the season; and (c) monthly reporting of fine-scale catch, effort and biological data on a haul-by-haul basis.

18. The Commission adopted new fishery regulation CM 51-05 (2008)—Krill: Limits on the exploratory fishery for Euphausia superba in Statistical Subarea 48.6 in the 2008/09 season.

The Commission agreed that the exploratory fishery for Euphausia superba in Statistical Subarea 48.6 in 2008/09 would be limited to one Norwegian-flagged vessel using fishing techniques listed in Annex A of CM 21-03. This was the first exploratory fishery for krill which the Commission has implemented.

The Commission set a precautionary catch limit for Euphausia superba of 15,000 tons, of which no more than 11,250 tons may be taken from areas within 60 nautical miles of known breeding colonies of land-based krill-dependent predators. Other requirements included: (a) Application of general mitigation measures contained in CM 25-03, and the mandatory use of marine mammal exclusion devices on trawls; (b) at least one observer appointed in accordance with the CCAMLR Scheme of International Scientific Observation, and, where possible, one additional observer on board throughout all fishing activities within the season; (c) use of the 10-day catch and effort reporting system; (d) collection of haul-by-haul catch, effort and biological data; and (e) application of general environmental protection measures in CM 26-01 and no offal discharge.

19. The Commission adopted new fishery regulation CM 52-01 (2008)—Crab: Limits on the fishery for crab in Statistical Subarea 48.3 in the 2008/09 season.

The Commission agreed to combine the requirements of CM 52-01 (2007) and 52-02 (2007) into a single measure for the crab fishery in Statistical Subarea 48.3. The elements of these measures were carried forward to 2008/09. The Commission also agreed to a requirement to carry at least one observer appointed in accordance with the CCAMLR Scheme of International Scientific Observation on board each vessel during all fishing activities.

20. The Commission adopted new fishery regulation CM 52-02 (2008)—Crab: Limits on the exploratory fishery for crab in Statistical Subarea 48.2 in the 2008/09 season.

The Commission agreed that the notifications for new fisheries for crab in 2008/09 should be considered as exploratory fisheries.

The Commission agreed that the exploratory fishery for crab in Statistical Subarea 48.2 in 2008/09 would be limited to one Russian-flagged vessel using pots only. The precautionary catch limit for crab was set at 250 tons. In accordance with CM 32-03 (Prohibition of directed fishing for finfish in Statistical Subarea 48.2), the Commission required that all live finfish taken as by-catch in the exploratory fishery for crab be released with the least possible handling, and that all live Dissostichus spp. be tagged prior to release. A total by-catch limit of 0.5 tons was set for all dead finfish. Other requirements in this fishery included, among other things, scientific observations, a data collection plan and an experimental harvest regime.

21. The Commission adopted new fishery regulation CM 52-03 (2008)—Crab: Limits on the exploratory fishery for crab in Statistical Subarea 48.4 in the 2008/09 season.

The Commission agreed that the exploratory fishery for crab in Statistical Subarea 48.4 in 2008/09 would be limited to one Russian-flagged vessel using pots only. The precautionary catch limits for crab was set at 10 tons. The Commission agreed that all live finfish taken as by-catch be released with the least possible handling, and that all live Dissostichus spp. be tagged prior to release. A total by-catch limit of 0.5 tons was set for all dead finfish. Other requirements in this fishery included, among other things, scientific observations, a data collection plan and an experimental harvest regime.

22. The Commission adopted new fishery regulation CM 61-01 (2008)—Squid: Limits on the exploratory fishery for Martialia hyadesi in Statistical Subarea 48.3 in the 2008/09 season.

The Commission carried forward the limits for the exploratory jig fishery for Martialia hyadesi in Statistical Subarea 48.3 in 2008/09, noting that no notification had been submitted for this fishery in 2008/09.

——————

¹ Except for waters adjacent to the Kerguelen Islands and Crozet Islands

² Except for waters adjacent to the Prince Edward Islands.

New Resolutions

The Commission adopted Resolution 27/XXVII (Use of a specific tariff classification for Antarctic krill) urging Members to adopt and use a specific tariff code for any trade in krill in order to improve Members' knowledge of the trade of krill products.

The Commission adopted Resolution 28/XXVII (Ballast water exchange in the Convention Area). The Antarctic Treaty Parties had adopted Resolution 3 (2006) Ballast Water Exchange in the Antarctic Treaty Area, which set out Practical Guidelines for Ballast Water Exchange in the Antarctic Treaty Area. The aim of the guidelines was to support early implementation of the practical measures identified in the International Convention for the Control and Management of Ships' Ballast Waters and Sediments, 2004 (IMO Ballast Water Management Convention). The guidelines were subsequently forwarded to the Marine Environment Protection Committee of the International Maritime Organization (IMO), which also adopted them in Resolution MEPC.164 (56).

The Commission noted that all CCAMLR Members have endorsed the guidelines for use in the Antarctic Treaty Area, through the IMO Resolution. It agreed to implement the guidelines for application to vessels engaged in harvesting and associated activities, as set out in Article II.3 of the CCAMLR Convention. In addition, although in practical terms any vessel transiting the Convention Area on route to the Antarctic Treaty Area should already be using the guidelines, the guidelines were extended to vessels operating only in the Convention Area north of 60 degrees S. Accordingly, the Commission adopted Resolution 28/XXVII.

For further information, see the CCAMLR Web site at www.ccamlr.org under Publications for the Schedule of Conservation Measures in Force (2008/2009), or contact the Commission at the CCAMLR Secretariat, P.O. Box 213, North Hobart, Tasmania 7002, Australia. Tel: (61) 3-6210-1111).

Authority: 16 U.S.C. 2431 et seq.

Dated: June 11, 2009.
Samuel D. Rauch III,
Deputy Assistant Administrator for Regulatory Programs, National Marine Fisheries Service.

[FR Doc. E9-14266 Filed 6-16-09; 8:45 am]

BILLING CODE 3510-22-P